SECURITIES AND EXCHANGE COMMISSION

[OMB Control No. 3235-0767]

Agency Information Collection Activities; Proposed Collection; Comment Request; Extension: Rule 204-5

Upon Written Request, Copies Available From: Securities and Exchange Commission, Office of FOIA Services, 100 F Street NE, Washington, DC 20549-2736

Notice is hereby given that, pursuant to the Paperwork Reduction Act of 1995 (44 U.S.C. 3501 et seq.), the Securities and Exchange Commission (the “Commission”) is soliciting comments on the collection of information summarized below. The Commission plans to submit this existing collection of information to the Office of Management and Budget for extension and approval.

The title for the collection of information is: “Rule 204-5 under the Investment Advisers Act of 1940.” Rule 204-5 requires an investment adviser to deliver an electronic or paper version of the relationship summary to each retail investor before or at the time the adviser enters into an investment advisory contract with the retail investor. The purpose of the relationship summary is to assist retail investors in making an informed choice when choosing an investment firm and professional, and type of account. Retail investors can use the information required in the relationship summary to determine whether to hire or retain an investment adviser, as well as what types of accounts and services are appropriate for their needs.

We estimate the total collection of information burden for rule 204-5 to be 1,241,670 annual aggregate hours per year, or 124 hours per respondent, for a total annual aggregate monetized cost of $95,678,622, or $9,520 per adviser.

The likely respondents to this information collection are approximately 10,050 investment advisers registered with the Commission that are required to deliver a relationship summary to retail investors pursuant to rule 204-5. We also note that these figures include the 291 registered broker-dealers that are dually registered as investment advisers.

An agency may not conduct or sponsor, and a person is not required to respond to, a collection of information unless it displays a currently valid OMB Control Number.

Written comments are invited on: (a) whether this proposed collection of information is necessary for the proper performance of the functions of the SEC, including whether the information will have practical utility; (b) the accuracy of the SEC's estimate of the burden imposed by the proposed collection of information, including the validity of the methodology and the assumptions used; (c) ways to enhance the quality, utility, and clarity of the information to be collected; and (d) ways to minimize the burden of the collection of information on respondents, including through the use of automated, electronic collection techniques or other forms of information technology.

Please direct your written comments on this 60-Day Collection Notice to Austin Gerig, Director/Chief Data Officer, Securities and Exchange Commission, c/o Tanya Ruttenberg via email to PaperworkReductionAct@sec.gov by December 1, 2025. There will be a second opportunity to comment on this SEC request following the Federal Register publishing a 30-Day Submission Notice.

Dated: September 29, 2025.
Sherry R. Haywood,
Assistant Secretary.

[FR Doc. 2025-19196 Filed 9-30-25; 8:45 am]

BILLING CODE 8011-01-P